DEPARTMENT OF DEFENSE

Department of the Air Force

[Docket ID: USAF-2022-HQ-0006]

Proposed Collection; Comment Request

AGENCY: Department of the Air Force, Department of Defense (DoD).

ACTION: 60-Day information collection notice.

SUMMARY: In compliance with the Paperwork Reduction Act of 1995, the Department of the Air Force announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by June 28, 2022.

ADDRESSES: You may submit comments, identified by docket number and title, by any of the following methods:

Federal eRulemaking Portal: https://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at https://www.regulations.gov as they are received without change, including any personal identifiers or contact information.

FOR FURTHER INFORMATION CONTACT: To request more information on this proposed information collection or to obtain a copy of the proposal and associated collection instruments, please write to Headquarters Air Force, 1040 Air Force Pentagon, 5B349, Washington, DC 20330-1040, Dr. Julie LaRow, 617-877-6672.

SUPPLEMENTARY INFORMATION: Title; Associated Form; and OMB Number: Department of the Air Force Integrated Response Co-Location Pilot; OMB Control Number 0701-IRCP.

Needs and Uses: Per the Undersecretary of the Air Force's direction, this pilot program seeks to improve Department of Air Force (DAF) response to and outcomes for Victims/Survivors of sexual assault, sexual harassment, domestic violence, stalking, and cyber harassment by piloting co-locations of identified response services. Select DAF installations will physically co-locate the Sexual Assault Response Coordinator (SARC), Sexual Assault Victim Advocate (SA VA), Domestic Abuse Victim Advocate (DAVA), Sexual Harassment, Victim's Counsel (VC), and Religious Support Teams (RST). Co-locating these victim support services will increase awareness, accessibility, and support for Victims/Survivors of sexual assault, sexual harassment, domestic violence, stalking, and cyber harassment. To evaluate the effectiveness of an organizational change to victim services, a survey will be conducted with victims of interpersonal violence, Airmen and Guardians at select installations, command-team members, and helping agency members (SARC/SA VA/DAVA, SH VA/VC/RST).

Affected Public: Individuals or households.

Annual Burden Hours: 3,035.3 hours.

Number of Respondents: 9,106.

Responses per Respondent: 2.

Annual Responses: 18,212.

Average Burden per Response: 10 minutes.

Frequency: On occasion.

Dated: April 26, 2022.
Aaron T. Siegel,
Alternate OSD Federal Register Liaison Officer, Department of Defense.

[FR Doc. 2022-09272 Filed 4-28-22; 8:45 am]

BILLING CODE 5001-06-P